INTERNATIONAL TRADE COMMISSION

[Investigation No. 731-TA-130 (Second Review)]

Chloropicrin From China

Determination

On the basis of the record ¹ developed in the subject five-year review, the United States International Trade Commission (Commission) determines, pursuant to section 751(c) of the Tariff Act of 1930 (19 U.S.C. 1675(c)) (the Act), that revocation of the antidumping duty order on chloropicrin from China would be likely to lead to continuation or recurrence of material injury to an industry in the United States within a reasonably foreseeable time.

¹ The record is defined in sec. 207.2(f) of the Commission's Rules of Practice and Procedure (19 CFR 207.2(f)).

Background

The Commission instituted this review on March 1, 2004 (69 FR 9638) and determined on June 4, 2004 that it would conduct an expedited review (69 FR 34402, June 21, 2004).

The Commission transmitted its determination in this review to the Secretary of Commerce on August 3, 2004. The views of the Commission are contained in USITC Publication 3712 (August 2004), entitled Chloropicrin From China: Investigation No. 731-TA-130 (Second Review).

By order of the Commission.
Issued: August 5, 2004.
Marilyn R. Abbott,
Secretary to the Commission.

[FR Doc. 04-18249 Filed 8-9-04; 8:45 am]

BILLING CODE 7020-02-P